DEPARTMENT OF ENERGY

Federal Energy Regulatory Commission

Combined Notice of Filings #1

Take notice that the Commission received the following electric rate filings:

Docket Numbers: ER13-614-001.

Applicants: Kincaid Generation, L.L.C.

Description: Compliance filing: Informational Filing Regarding Upstream Change in Control to be effective N/A.

Filed Date: 12/15/17.

Accession Number: 20171215-5000.

Comments Due: 5 p.m. ET 1/5/18.

Docket Numbers: ER15-1641-002.

Applicants: Dynegy Fayette II, LLC.

Description: Compliance filing: Informational Filing Regarding Upstream Change in Control to be effective N/A.

Filed Date: 12/14/17.

Accession Number: 20171214-5154.

Comments Due: 5 p.m. ET 1/4/18.

Docket Numbers: ER15-1642-002.

Applicants: Dynegy Hanging Rock II, LLC.

Description: Compliance filing: Informational Filing Regarding Upstream Change in Control to be effective N/A.

Filed Date: 12/14/17.

Accession Number: 20171214-5156.

Comments Due: 5 p.m. ET 1/4/18.

Docket Numbers: ER15-1648-002.

Applicants: Dynegy Washington II, LLC.

Description: Compliance filing: Informational Filing Regarding Upstream Change in Control to be effective N/A.

Filed Date: 12/14/17.

Accession Number: 20171214-5160.

Comments Due: 5 p.m. ET 1/4/18.

Docket Numbers: ER17-1658-001.

Applicants: Calumet Energy Team, LLC.

Description: Compliance filing: Informational Filing Regarding Upstream Change in Control to be effective N/A.

Filed Date: 12/14/17.

Accession Number: 20171214-5152.

Comments Due: 5 p.m. ET 1/4/18.

Docket Numbers: ER17-1659-001.

Applicants: Northeastern Power Company.

Description: Compliance filing: Informational Filing Regarding Upstream Change in Control to be effective N/A.

Filed Date: 12/14/17.

Accession Number: 20171214-5162.

Comments Due: 5 p.m. ET 1/4/18.

Docket Numbers: ER17-1660-001.

Applicants: Pleasants Energy, LLC.

Description: Compliance filing: Informational Filing Regarding Upstream Change in Control to be effective N/A.

Filed Date: 12/14/17.

Accession Number: 20171214-5163.

Comments Due: 5 p.m. ET 1/4/18.

Docket Numbers: ER17-1718-003.

Applicants: Dynegy Dicks Creek, LLC.

Description: Compliance filing: Informational Filing Regarding Upstream Change in Control to be effective N/A.

Filed Date: 12/14/17.

Accession Number: 20171214-5153.

Comments Due: 5 p.m. ET 1/4/18.

Docket Numbers: ER17-1719-003.

Applicants: Dynegy Killen, LLC.

Description: Compliance filing: Informational Filing Regarding Upstream Change in Control to be effective N/A.

Filed Date: 12/14/17.

Accession Number: 20171214-5157.

Comments Due: 5 p.m. ET 1/4/18.

Docket Numbers: ER17-1720-003.

Applicants: Dynegy Miami Fort, LLC.

Description: Compliance filing: Informational Filing Regarding Upstream Change in Control to be effective N/A.

Filed Date: 12/14/17.

Accession Number: 20171214-5158.

Comments Due: 5 p.m. ET 1/4/18.

Docket Numbers: ER17-1721-004.

Applicants: Dynegy Stuart, LLC.

Description: Compliance filing: Informational Filing Regarding Upstream Change in Control to be effective N/A.

Filed Date: 12/14/17.

Accession Number: 20171214-5159.

Comments Due: 5 p.m. ET 1/4/18.

Docket Numbers: ER17-1722-003.

Applicants: Dynegy Zimmer, LLC.

Description: Compliance filing: Informational Filing Regarding Upstream Change in Control to be effective N/A.

Filed Date: 12/14/17.

Accession Number: 20171214-5161.

Comments Due: 5 p.m. ET 1/4/18.

Docket Numbers: ER18-365-001.

Applicants: Access Energy Solutions, LLC.

Description: Tariff Amendment: MBR Tariff to be effective 1/29/2018.

Filed Date: 12/14/17.

Accession Number: 20171214-5103.

Comments Due: 5 p.m. ET 1/4/18.

Docket Numbers: ER18-454-000.

Applicants: The United Illuminating Company.

Description: § 205(d) Rate Filing: Third Supplement to Lease Agreement with CDOT to be effective 12/15/2017.

Filed Date: 12/14/17.

Accession Number: 20171214-5155.

Comments Due: 5 p.m. ET 1/4/18.

Docket Numbers: ER18-455-000.

Applicants: ISO New England Inc., New England Power Pool Participants Committee.

Description: § 205(d) Rate Filing: ISO-NE and NEPOOL Filing Re: CSO Transfer Improvements to be effective 3/1/2018.

Filed Date: 12/15/17.

Accession Number: 20171215-5054.

Comments Due: 5 p.m. ET 1/5/18.

Docket Numbers: ER18-456-000.

Applicants: PJM Interconnection, L.L.C.

Description: Tariff Cancellation: Notice of Cancellation of 1st Rev. Service Agreement No. 2195, Queue No. X1-074 to be effective 1/13/2018.

Filed Date: 12/15/17.

Accession Number: 20171215-5061.

Comments Due: 5 p.m. ET 1/5/18.

Docket Numbers: ER18-457-000.

Applicants: Gainesville Renewable Energy Center, LLC.

Description: Tariff Cancellation: Cancellation of MBR Tariff to be effective 12/18/2017.

Filed Date: 12/15/17.

Accession Number: 20171215-5069.

Comments Due: 5 p.m. ET 1/5/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 15, 2017.
Nathaniel J. Davis, Sr.,
Deputy Secretary.

[FR Doc. 2017-27492 Filed 12-20-17; 8:45 am]

BILLING CODE 6717-01-P